DEPARTMENT OF COMMERCE

National Oceanic and Atmospheric Administration

Marine Protected Areas Federal Advisory Committee; Public Meeting

AGENCY: National Ocean Service, NOAA, Department of Commerce.

ACTION: Notice of open meeting.

SUMMARY: Notice is hereby given of the next meeting of the Marine Protected Areas Federal Advisory Committee (Committee) in Newport, Oregon.

DATES: The meeting will be held Tuesday, October 10, 2006, from 8:30 a.m. to 5 p.m., Wednesday, October 11, 2006, from 8 a.m. to 5 p.m., and Thursday, October 12, 2006, from 8 a.m. to 4:30 p.m. These times and the agenda topics described below may be subject to change. Refer to the Web page listed below for the most up-to-date meeting agenda.

ADDRESSES: The meeting will be held at the Oregon Coast Aquarium, 2820 SE Ferry Slip Road, Newport, Oregon 97365.

FOR FURTHER INFORMATION CONTACT: Lauren Wenzel, Designated Federal Official, MPA FAC, National Marine Protected Areas Center, 1305 East West Highway, Silver Spring, Maryland, 20910. (Phone: 301-713-3100 x136, Fax: 301-713-3110); e-mail: lauren.wenzel@noaa.gov; or visit the National MPA Center Web site at http://www.mpa.gov).

SUPPLEMENTARY INFORMATION: The Committee, composed of external, knowledgeable representatives of stakeholder groups, was established by the Department of Commerce to provide advice to the Secretary of Commerce and the Secretary of the Interior on implementation of Section 4 of Executive Order 13158 on MPAs. The meeting will be open to public participation with a one hour time period set aside from 4 p.m. to 5 p.m. on Tuesday, October 10, 2006, and one hour set aside from 8:10 a.m. to 9:10 a.m. on Thursday, October 12, 2006, for the Committee to receive verbal comments or questions from the public. In general, each individual or group making a verbal presentation will be limited to a total time of five (5) minutes. Copies of written statements should be submitted to the Designated Federal Official by October 6, 2006.

Matters To Be Considered: On Tuesday, October 10, 2006, the Committee will receive presentations on the draft Framework for Developing a National System of MPAs and on ocean zoning. In addition, the subcommittees will meet. On Wednesday, October 11, 2006, the Committee will hear from speakers on MPAs in Oregon and tribal MPA policies in the Pacific Northwest. The subcommittees will also continue their work. On Thursday, October 12, 2006, the Committee will hear about MPA management on the Pacific coast, and the subcommittees will report on their work to the full Committee. The agenda is subject to change, and the latest version will be posted at http://www.mpa.gov.

Dated: September 20, 2006.
Mitchell A. Luxenberg,
Deputy Director, Management and Budget, National Ocean Service.

[FR Doc. E6-15760 Filed 9-25-06; 8:45 am]

BILLING CODE 3510-08-P